DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending June 30, 2010.

Last name | First name | Middle name/initials
Abobo | Vincente | Dumadag
Adams | D. | Michael
Ahmad | Amir | K.
Aiello | Heana | Celia
Aita | Stephan | Anthony
Akazawa | Haruyuki |
Albuquerque | Sean | David
Alder | Caroline | Jane
Alpen | Jens | A.
Alzouman | Bazza | S.
Alzouman | Suad | I.
Amano | Keiko |
Amano | Kenichi |
Amiti | Tatjana |
Anderson | Barbara | Christa
Anderson | John | Derek
Anderson | Rose | Mary
Andreen | Clas | Svante Joel
Ang | Diana | Shu-Zhen
Angelini | Kevin | Yang
Aomori | Miki |
Arakaki | Shigeo |
Archer | Neal | K.
Arene | Eugene | Aroneanu
Arksey | Gregory |
Au | Kevin |
Bachmann | Dorothea | Anna
Bae | Bok | Soon
Bailey | Dylan | Ivan
Bamford | George |
Barp | Mario | Bruno
Bates | Beverley | J.
Bates | Leslie | A.
Baudon | Thierry | Marie
Beattie | Daniel |
Becker | Kaja | K.
Bednarz | Andrew | James
Beirnes | Denise |
Bell | William | Anthony
Bergandi | Marco | Lee
Berre | Jean | N.
Berryman | Curtis | Frederick
Beveridge | Richard | Henry Earle
Beveridge | Suzanne | Maree
Birkelid | Carrie | Nell
Bisgaard | Keld |
Bisgaard | Nathalie |
Bisgaard | Stephanie |
Blanshard | Nigel | Gove
Blin | John |
Bobillier | Rachel |
Bonnet | Servane | Michele
Borer | Robert | Chamberlain
Bourguignon | Monique | J.
Bourguignon | Patrick | H.
Bozicevich | Mario | S.
Brady | Mary | I.
Brandl | Marilyn | Hester
Bratsberg | Bo | Magnus
Braziunas | Darius |
Bree | David | Nathan
Brenninkmeyer | Roderick | Alphons Ludgeros
Brodie | John | B.
Broshy | Gad |
Busch | Tristan | David Charles
Cake | Terry | E.
Campbell-Scherer | Denise |
Carison | Helma | Maria
Cha | Benjamin | Hau Tsung
Chabot | Jean | L.
Chan | Charles | T.
Chan | Chi | Ming
Chan | Ching | Chung
Chan | Dennis | Kwok-Leung
Chan | Myles | Po Loi
Chang | Chien-Hui |
Chang | Michael | Lt
Chang | Sheng | En
Chang | Shu-Chin |
Chau | Ling | Ki
Chaves | Ricardo |
Chen | Betty | Wong
Chen | Che | Ted
Chen | Helen | Yan Heung
Chen | Jai Qing |
Chen | Kuei | Yung
Cheng | Chuck | Cheuk-Wing
Cheng | Mabel | Po Fam Lam
Cheuk | Alexander | Siu-Bun
Cheuk | Victoria | Wai Ki
Cheung | Alice | Sin Ting
Cheung | Ling-Lun | Yeung
Cheung | Mark | Quintin
Chih-Hsiang | Lisa | Lee
Chiu | Sammy | Kai-Kong
Christianson | Marlys |
Chun | Jessica |
Chung | Hyeeinn | Jennifer
Clark | Martin | V.
Clasper | David | B.
Connaughty | Margaret | Sharon
Connell | Marcos |
Cook (Vaughan) | Jean | Lois
Costermans | Claire |
Crawford | Annette |
Cussen | Antonio | Jose
Cussen | Antonio | Jose
Davaucourt | Marie-Laure | Dominique, Devitry
De Terra | Magnolia |
Degunzburg | Marc | David
Dempfle | Carl-Erik | Hartmut
Dimingo | Tatiana | Santo
Djeu | Tuck | Shing
Djordjevic | Marianna | Wagener
Douglas | Louise | E.
Douglas-Good | Johanne | B.
Drake | William | E.
Driscoll | John | T.
Dutt | Ashu |
Eggenschwiler | Julie | Ann
Eisele | Nichelle | Lynn
Eksioglu | Burak |
Elkin-Mocatta | Frederick | Edward
Engle | Colin | Mckinley
Epp | Matthias |
Epstein | Joshua | P.
Eslampour | Robert |
Esterhuizen | Femmy | W.
Esterhuizen | Willem | L.
Estes | Katherine | L.
Etheart | Florence |
Fairchild | Peter | Tappen
Fairweather | Nicholas |
Falkehed | Sven | Erik
Farrell | Douglas | John
Fay | Mary Susan | Standish
Fernandez-Bianci | Jorge | Miguel
Ferro | Patricia |
Fischer | Jurg |
Fish | Ian | T.
Flader | Jack | W.
Fleming | Hildegard | Jennifer
Fleming | Richard | Michael
Fok | Vincent | C.
Fong | Hoi | Sze Amy
Foo | Pauline | Chu
Franchitto | Mary | Jane
Fried | Josephine | M.
Froemel | Beate |
Fu | Po | Lin
Fukunaga | Miki |
Fuller | Frances | T.
Garston | Adrian |
Giraud | Jean-Paul | M.
Goes | Rodrigo | S.
Goes | Rodrigo | S.
Gonzales | Joseph | Robert
Gonzales | Marc | Daniel
Goodman | Jeffrey | H.
Graebert | Astric | Laurence
Graziano | Mylene |
Greville | John | B.
Grimstad | Oystein | Herman
Grindrod | Fiona | E.
Grozev | Roumen | G.
Guerreri | Joshua | Nicholas D'aluisio
Gut | Rainer | Alexander
Haettenschwiller | David | Laurence
Hall | Alastair | R.
Hamilton | Barry | Manely
Hammerich | Bo | Jorgen
Hammond-Myhre | Susanna | M.
Hanan | Christopher | Charles
Hand | Jeremy |
Hara | Sueko |
Haussmann | William | Frederick
Hawit | Lizette |
Hayashi | Mariko |
Hayashi | Yasunori |
He | Fei |
Heald | Pamela |
Heine | Andreas |
Heinecke | Patricia | Ann
Hellings | Marcel |
Henderson | Edward | Lloyd
Hickman | Patricia | Hazel
Hickson | Louis | Joseph
Hill-Saran | Jennifer | Elizabeth
Ho | Mark | Chin Wei
Hoel | Karina | Vieira
Hohl-Desmarais | Corinne |
Hojo | Hiroshi |
Hoomani | Susan |
Hooper | Jeremy | Whitney
Hori | Masahiro |
Horisberger-Cuendet | Laure | Gabrielle
Hsia | Mia | Mu Yi
Hsu | Kay | Wong
Hui | Kington | Kin Bong
Hui | Kwok-Kit |
Hui | Man | Yan Mark
Hui | Ng Suk | Ha
Hung | Janet | Yi Kui
Hung | San-Hsiung |
Husain | Syed | F.
Huttinger | Dorothea | Anne
Ihii | Kiyoshi |
Ikeda | Tomoharu |
Imanishi | George | Kiyohisa
Imhoof | Claude | R.
Indergand | Corinne | Ann Veya
Ireton | Peter | S.
Irving | Laura | Nadine
Ishibashi | Keiko |
Ishigaki | Fumie |
Ishigaki | Kiyochika |
Ishii | Kuniko |
Ishiyama | Maki |
Issa | Muna | M.
Itabashi | Yasuhisa |
Itakura | Yuuichi |
Jacob | John |
Jaeggi | Ann | M.
Jaffe | Nicholas | David John
Jagan-Brancier | Nadira | S.
Javorcik | Beata | S.
Jimenez | Marvin |
Johnson | Keith |
Johnson | Patricia | Margaret
Jung | Manfred | F.
Justice | Rose | Ong
Kadoorie | Phillip | Lawrence
Kaizuka | Atsuko |
Kaizuka | Chisato |
Kaizuka | Fumiko |
Kaizuka | Masao |
Kalinjowska | Teresa |
Kan | Kei | Nap
Kan | Mandy | Kit Ming
Karl | Jarkko |
Kayal | Hawazen | Alawi
Kayser | Carolyn | Sue
Keil | Jared | Tao
Kendall | Don |
Kendall | Teresa |
Kennedy | Christin | Susan
Kim | Chung | H.
Kim | Hannah | Boyoung
Kim | Johnny | Han
Kin | Tse | Wing
Kiresepi | Sami |
Kito | Ryusuko |
Klein | Bradley | John
Ko | Edward | Suk
Ko | Margaret | Yuyin
Kong | Harvey |
Kothari | Dilip | Tulsidas
Kwok | Kendrick | Wing-Kay
Lahey | Linda | Soewarni Widjaja
Lam | Karen | Suk-Yan
Lam | Keith | Brendan Xun-Yu
Lam | Sharon | Ka Suet
Lam | Sian | Yan Iwalani
Lam | Thomas | Ying-Tai
Lamare | Joanne | T.
Langley | Rhonda | Elizabeth
Langley | Ronald |
Lao | Man Bee |
Lao | Ruperto | C.
Laty | Fabrice | S.
Lau | Kwok | Chu
Lau | Lawrence | Juen-Yee
Lau | Megan | Shirley
Lau | Ross | B.
Lauzat | Eric | Jean Pierre
Law | Stephanie | Kai Nin
Law | Stephanie | Kai Nin
Law | Ying | Chee Fogg
Lawless | Joanne | Murphy
Layman | Thomas |
Lee | Hoon |
Lee | Hye | Young
Lee | Kristina |
Lee | Ming-Chih |
Lenders | Karine |
Leonard | Paul | Richard
Leong | Camellia | Yuet Yee
Leung | Jerome | Ty
Leung | Jonathan | Ted
Leung | Tom | Koon-Cheung
Levin | David | Joseph
Levine | Zuriel | Meshulam
Lewis | Brian | Stuart
Li | Evan | Ming-Hon
Li | Gregg | Great Ka Lok
Li | Karen | Fung Ling
Lim | Elsie | Chui-Ling
Lim | Lawrence | Fengyuan
Lin | Ho-Ping |
Lin | Jixan |
Liu | Erh | Fei
Liu | Xingxie |
Lo | David | Tai Wai
Lo | John | Yen Chak
Lok | Si |
Losert | Peter |
Louey | Winifred | Wai Fong
Low | Elaine |
Lowery | Don |
Lu | Min |
Lund | Uwe |
Lyonel | Roturier |
Ma | Cheryl | Ann Pei Wen
Ma | Theodore | H.
Ma | Yu |
Machlin | Anna | Farra
Machlin | Katherine | Samantha
Machlin | Laura | Ann
Machlin | Rachel | Shirley
Maduro | Jaime | Eduardo
Maggard | James | Douglas
Magnoni | Olivia |
Malik | Akhtar | Hussain
Manley | Morgan | J.
Martin | Elsi | Maria
Martin | Monique | C.
Martin | Theresa | Y.
Mashlenko | Irina |
Matsuoka | Shinya |
Matthieu | Mingasson |
Maxwell | Marius |
Mcdonald | Matthew | E.
Mcdonnell | Gerald | E.
Mcdonnell | James | Gerald
Mcgoldrick | Patrick | R.
Mckenzie | Maria | E.
Mehalko | Evelyn | Cindy
Mell | Hilda | Odette
Melnyk | Kevin | W.
Melton | Ursula | Margarethe
Meneghini | Bruno | Mario
Meng | Liang |
Michael | Kayla | Rynn
Migrino | Martin | C.
Miles | Nicola | Jane
Miltcheva | Radosveta | G.
Mioni | Marcello |
Mitchell | Charles | Henry
Monoson | Leslie | Uriel
Montague | Eric | Stephane
Moon | Diana |
Moore | Giampier |
Morgalis | Chong | Nan
Morison | Andrew | Malcolm
Moscona | Gabriel |
Muck | Linda |
Mullenworth | John | Christopher
Munshi | Saleh | Mohamed
Murdock Jr. | John | Thomas
Murdock | John | Thomas
Murfitt | Gerard | John
Muto | Eita |
Muto | Hiroko |
Nagata | Y. |
Nahas | Marie | Anne
Nelson | Barbara | Belle
Newsome | Mara |
Ng | Bertha |
Ng | Edwin | Sai-Wah
Ng | Fong | Shing
Ng | Madeline |
Ng | Ronald | Sai Cheong
Niiori | Kay | K.
Noh | David | Hyo Joon
Norfleet | Coburn | T.
North | Richard | Alan
O'neill | Swentana | Viktorovna
Onodera | Akira |
Oswald | Sarah | Catherine
Owen | Richard | J.
Pakir | Sheila | Kaye
Parayno | Bonafe | Devera
Park | Kee | Hwa
Park | Song | Soon
Patel | Prayank | Pravinkumar
Patterson | Jane | Meghan
Peckford | Louise | Adele
Peet | Sylvia |
Peet | William | Edward
Peterson | Nancy | L.
Pethe | Ellen | Nmi
Petith | Howard | Carl
Pfeifer | Monique | Evelyne
Phillips | Michael | Robert
Philpott | Thomas | P.
Polemitis | Andreas | Charalampou
Pope | Mary | Anna
Protopopov | Andrew |
Pynaker | Linda | Louise
Quinn | Rafael | A.
Rachen | Lars |
Radaza | Harry | Don Anderson
Ramalho | Sonia | Machado
Ravindran | Vappalak | A.
Razis | Evangelia |
Renold | Octavia | Lavia
Reppelin-Hill | Valerie |
Richie | James | Drake
Richman | Eliot | Marshall
Richter | Andrea | Virginia
Rigazzi | Alain | R.
Ritter | John | D.
Roden-Davis | Ulla | K.
Rolfe | Pamela | Anne
Roman | Yeon | Hee
Rosario | Hanzel | Danoise
Rose | James | B.
Rousso | Renee |
Rubner-Dhaens | Carolin |
Sakka | Akiko |
Sakka | Mitsumasa |
Salles | Joao | Moreira
Salvi | Vanessa | Jennifer
Samper | Dario |
Sani | Dalina | Abdul
Sarmiento | Sonia |
Satrap | Alireza |
Saumweber | Helena | Maria
Schatz | John | Barkley
Scherer | Stefan |
Schmid | Oliver |
Schmidberger | Maria | A.
Schneider | Franziska | Corinna
Schneider | Maria | Madalene
Schnell | Marlies | G.
Schnell | Sidney | P.W.
Scott-Perry | Pilar |
Seiler | Amada | Helena
Selden | Janet | Elizabeth
Selden | Robin | Geoffrey
Sele | Joan | Helen
Serruya | Raphael | Jose
Shackleton | David | Ian
Shaeffer | Sheldon | Floyd
Shaker | Nawal |
Shantz | Wayne | Ralph
Sharma | Pratibha |
Shen | Hung | Yat Allen
Shih | Jonathan | Hung-Yee
Shih | Jonathan | Chih Cheng
Shih | Kendrick | Co
Shizuka | Emiko |
Shmuilovich | Svetlana |
Siravanta | Sammy |
Smith | Alan | A.
Smith | Judi | A.
Smith | Linda | C.
Smith | Robin | L.
So | Jonathan | Wing Lok
So | Wendy | Wan Yee
Solomon | Stephan | Joel
Son | Jenie |
Son | Kon | Ok
Song | Chi | Mi
Songkla | Dee | Cee Na
Sophonpanich | Donna |
Southergill | Bryan | Taft
Speight Feller | Senta |
Speyer | Jacques-Paul | Fabien
Spoliansky | Dimitri | Patrick Rouxel
Spring | Annabel | F.
Srinivasan | Rajan | Ramaswamy
Stamatopoulos | Konstantinos |
Stauffer | Jeanne |
Stetzenmeyer | Marie-Claude |
Stiernhielm | Maximilian | Olof Winkler Von
Stirling | Erin |
Stockburger | Bernd | E.
Stokes | Peter |
Sugimoto | Chihiro |
Sugimoto | Iwaki |
Suica | Igor |
Sun | Jenny |
Sung | Pauline | C.
Sweeney | Kathleen | Sachiko
Szeto | Margaret | Po
Tai | Vincent | Po-Ka
Taimi | Tomoko |
Takahashi | Kazuo |
Tan | Alice |
Tan | Peter |
Tan | Willie |
Tanielian | Adam | Richard
Testa | Carlo |
Thow | Xin | Yuan
Ting | Arthur | Kwang-Hung
Tintor | Isabel | Reed
Toepel | Wolfgang |
Toh | Andrew | Yung-Wei See
Tokcan | Atil | Enis
Tokoro | Midori |
Tokoro | Mikiya |
Tong | Andrew | Wai-Chung
Tsang | Wai Po | Polly
Tsangrides | Philippos | Alexandros
Tse | Anthony | Wai Chung
Tse | Christopher |
Tung | Alan | Leih-Sing
Tung | Po Ming | Janet
Turner | Susan | Claire
Uhl | Matthias | William
Urdahl | Eric | Carl Johan
Valls | Mary | C.
Waechter | Hanspeter |
Wang | Danchi |
Wang | Jenny | Shin-Yee
Wang | Lisa | Chia-Yee
Wang | Yue |
Waple | Gudrun |
Wardman | George | Alfred
Waterbury | Clair |
Watson | Mark | A.
Webbe | Jill | Periton
Weiss | Jochen |
Weissmann | Arie | Efraim
Wiesmann | Christian |
Wiesmann | Marion |
Williams | Gabrielle | Ashley
Wong | Andrew | C.K.
Wong | Catherine | Hwansei
Wong | Eric | Dylan
Wong | Helen | Siu Ming
Wong | Nelson |
Wong | Polly | Po-Yee
Wong | Suzanne |
Wossink | Grada | A.
Writesman | Christopher | Michael
Wun | Harvey |
Wylie | Harvey |
Xu | Hang | Michael
Yamazaki | Megumi |
Yang | Mei-Ni |
Yates | Richard | I.
Yau | Tsz-Chung | Anthony
Ying | Long | Shang Ying
Yip | Kamchuen | Oliver
Yip | Katherine | Ching
Yokoo | Kenji |
Yokoo | Mitsuko |
Young | Peter | Leung
Yukawa | Hideto |
Yukawa | Noriko |
Zavatti | Gabriella | Alana
Zhang | Alex | Mingtang
Zhang | Ling |
Zhang | Sharon | Xiaoyu
Zhao | Qing |
Zho | Hao |
Zimmermann | Erika | Christel
Zong | Kelly | Fuli

Dated: August 3, 2010.
Angie Kaminski,
Manager Team 103, Examinations Operations—Philadelphia Compliance Services.

[FR Doc. 2010-28316 Filed 11-9-10; 8:45 am]

BILLING CODE 4830-01-P